DEPARTMENT OF DEFENSE

DEPARTMENT OF ENERGY

ENVIRONMENTAL PROTECTION AGENCY

NUCLEAR REGULATORY COMMISSION

[Docket No. CP08-6-002]

Multi-Agency Radiation Survey and Assessment of Materials and Equipment Manual

AGENCY: Department of Defense, Department of Energy, Environmental Protection Agency, and the Nuclear Regulatory Commission.

ACTION: Notice of availability.

SUMMARY: The Department of Defense (DoD), Department of Energy (DOE), U.S. Environmental Protection Agency (EPA), and the U.S. Nuclear Regulatory Commission (NRC) are announcing the availability of the final “Multi-Agency Radiation Survey and Assessment of Materials and Equipment manual” (MARSAME). MARSAME provides information on planning, conducting, evaluating, and documenting radiological surveys for demonstrating compliance with measurable action levels. The MARSAME manual is a multi-agency consensus document. The agencies previously have sought public comment in order to receive feedback from the widest range of interested parties and to ensure that all information relevant to developing the document was received. The agencies reviewed public comments received on the draft MARSAME as well as comments from a concurrent, independent, technical peer review. Suggested changes were incorporated, where appropriate, in response to those comments.

ADDRESSES: Copies of the draft MARSAME and all comments received may be examined or copied for a fee electronically in http://www.regulations.gov, or in hard copy at the HQ EPA Docket Public Reading Room, U.S. Environmental Protection Agency, Room 3334, Docket ID No. EPA-HQ-OAR-2006-0957, 1301 Constitution Ave., NW., Washington, DC 20460, and the NRC Public Document Room, 11555 Rockville Pike, Rockville, Maryland 20852-2747. The HQ EPA Docket Public Reading Room is open from 8:30 a.m. to 4:30 p.m., Monday through Friday, excluding legal holidays. The telephone number for the EPA HQ Docket Public Reading Room is (202) 566-1744. DOE, EPA, and NRC each have a publication number for MARSAME. They are: For DOE, DOE/HS-0004; for EPA, EPA 402-R-09-001; for NRC, NUREG-1575, Supp. 1. Copies of the final MARSAME may be purchased by requests in writing to: The Superintendent of Documents, U.S. Government Printing Office, P.O. Box 37082, Washington, DC 20402-9328. The document will be available through the Internet at: http://www.epa.gov/radiation/marssim.

FOR FURTHER INFORMATION CONTACT: Any of the following points of contact for each agency for technical information (see ADDRESSES section above for directions on obtaining a copy of the draft MARSAME): DoD: Steven Doremus, Phone: (757) 887-7745, U.S. Navy, NAVSEADET RASO, NWS, P.O. Drawer 260, Yorktown, VA 23691-0260; DOE: W. Alexander Williams, Phone: (301) 903-8149, U.S. Department of Energy (EM-23), 1000 Independence Avenue, SW., Washington, DC 20585; EPA: Kathryn Snead, Phone: (202) 343-9228, U.S. Environmental Protection Agency, Mail Stop 6608J, 1200 Pennsylvania Avenue, NW., Washington, DC 20460-1000; NRC: Robert A. Meck, Phone: (301) 251-7548, U.S. Nuclear Regulatory Commission, Mail Stop C3 C07M, Washington, DC 20555. Questions concerning the multi-agency document development project should be addressed to Kathryn Snead, Phone: (202) 343-9228, U.S. Environmental Protection Agency, Mail Stop 6608J, 1200 Pennsylvania Avenue, NW., Washington, DC 20460-1000.

SUPPLEMENTARY INFORMATION: MARSAME provides information on planning, conducting, evaluating, and documenting environmental radiological surveys for demonstrating compliance with measurable action levels applied to materials and equipment. MARSAME is a multi-agency consensus document and a supplement to the Multi-Agency Radiation Survey and Site Investigation Manual (MARSSIM).

MARSAME was developed collaboratively over the past six years by the technical staffs of the four Federal agencies having authority for control of radioactive materials: DoD, DOE, EPA, and NRC. For a time, staff from the Department of Homeland Security participated in the development of MARSAME. Contractors to the DOE, EPA, and NRC, and members of the public have been present during the open meetings of the MARSAME workgroup. MARSAME's objective is to describe standardized and consistent approaches for surveys, which provide a high degree of assurance that established action levels can be measured and an appropriate disposition of materials or equipment can be technically defended. The techniques, methodologies, and philosophies that form the bases of this manual were developed to be consistent with current Federal limits, guidelines, and procedures.

MARSAME benefited from extensive internal, public, and technical peer reviews. In addition to written comments, the work group provided the public with the opportunity to comment during the open meetings. The document also received formal technical peer review under the auspices of the EPA Science Advisory Board (SAB). The results of the peer review and the responses to comments by the EPA are publicly available for examination and may be copied for a fee (see ADDRESSES section above for directions). In its findings, the SAB stated that, “The MARSAME manual impresses the Panel as an excellent technical document for guiding a materials and equipment survey.” The responses to the technical review comments by the SAB may be viewed at the following World-Wide-Web site: http://yosemite.epa.gov/sab/sabproduct.nsf/5520FF23A405DCEB8525749E00737EEF/$File/EPA-SAB-08-010+Response+09-22-2008.pdf.

The author agencies solicit comments arising from review and use of the final MARSAME. Comments will be reviewed periodically by the author agencies, resolved as appropriate, and incorporated into future revisions of the MARSAME. Members of the public are invited to submit written comments to the Chief, Rules and Directives Branch, Division of Administrative Services, U.S. Nuclear Regulatory Commission, Washington, DC 20555-0001. Copies of all comments received by one agency will be periodically copied and sent to the others. Revised pages resulting from the resolution of comments will be available on the Internet at: http://www.epa.gov/radiation/marssim. This EPA Web site is also accessible by links from the NRC home page at: http://www.nrc.gov; and the DOE home page at: http://www.doe.gov.

For the Department of Defense, dated this 16th day of December 2008.
Alex Beehler,
Assistant Deputy Under Secretary of Defense, (Environment, Safety and Occupational Health).
For the U.S. Department of Energy, dated this 18th day of December 2008.
Andrew C. Lawrence,
Director, Office of Nuclear Safety, Quality Assurance and Environment, Office of Health, Safety and Security.
For the U.S. Environmental Protection Agency, dated this 15th day of December 2008.
Elizabeth Cotsworth,
Director, Office of Radiation and Indoor Air.
For the U.S. Nuclear Regulatory Commission, dated this 9th day of January 2009.
James E. Lyons,
Deputy Director, Office of Nuclear Regulatory Research.

[FR Doc. E9-975 Filed 1-15-09; 8:45 am]

BILLING CODE 7590-01-P